DEPARTMENT OF ENERGY

Federal Energy Regulatory Commission

Notice of Intent To File an Application for a New License

January 11, 2000.

a. Type of Filing: Notice of Intent to File An Application for a New License.

b. Project No.: 2207.

c. Date Filed: December 13, 1999.

d. Submitted by: Wausau-Mosinee Paper Corporation—current licensee.

e. Name of Project: Mosinee Hydroelectric Project.

f. Location: On the Wisconsin River near the town of Mosinee, in Marathon County, Wisconsin.

g. Filed Pursuant to: Section 15 of the Federal Power Act.

h. Licensee Contact: Bruce Ruzek, Wausau-Mosinee Paper Corporation, 100 Main Street, Mosinee, WI 54455 (715) 693-0254.

i. FERC Contact: Tom Dean, thomas.dean@ferc.fed.us, (202) 219-2778.

j. Effective date of current license: January 1, 1982.

k. Expiration date of current license: December 31, 2004.

l. Descritpion of the Project: The project consists of the following existing facilities: (1) a 356-foot-long rock-filled timber crib dam comprised of a 20-foot-long concrete spillway section at both ends; (2) a 47-foot-long rock-filled timber structure; (3) a 1,377-acre reservoir at a normal pool elevation of 1,138.5 feet U.S.G.S.; (4) a powerhouse containing three generating units with a total installed capacity of 3,050 kW, (5) two 2,000-foot-long, 5-kV transmission lines; and (6) other appurtenances.

m. Each application for a new license and any competing license applications must be filed with the Commission at least 24 months prior to the expiration of the existing license. All applications for license for this project must be filed by December 31, 20002.

Linwood A. Watson, Jr.,
Acting Secretary.

[FR Doc. 00-1011 Filed 1-14-00; 8:45 am]

BILLING CODE 6717-01-M